DEPARTMENT OF THE INTERIOR

Fish and Wildlife Service

Information Collection To Be Submitted to the Office of Management and Budget (OMB) for Approval Under the Paperwork Reduction Act

AGENCY: Fish and Wildlife Service, Interior.

ACTION: Notice of intent to request information collection authority.

SUMMARY: We, the U.S. Fish and Wildlife Service, will be submitting to the OMB the collection of information described below for approval and renewal under the provisions of the Paperwork Reduction Act of 1995. Copies of specific information collection requirements, related forms, and explanatory material may be obtained by contacting our Information Collection Officer at the address or phone number listed below.

DATES: You must submit comments on or before May 7, 2001.

ADDRESSES: Your comments and suggestions on specific requirements should be sent to our Information Collection Clearance Officer, U.S. Fish and Wildlife Service, MS 222, ARLSQ, 1849 C Street, NW., Washington, DC 20240; Telephone 703/358-1943.

FOR FURTHER INFORMATION CONTACT: Jeffrey L. Horwath, Division of Fish and Wildlife Management Assistance and Habitat Restoration, Arlington, Virginia, at 703-358-1718, or Wells Stephensen, Office of Marine Mammals Management, Anchorage, Alaska, at 907/786-3815.

SUPPLEMENTARY INFORMATION: We propose to submit the following information collection clearance requirements to the OMB for review and approval under the Paperwork Reduction Act of 1995, Public Law 104-13. Your comments are invited on: (1) Whether this collection of information is necessary for us to properly perform our functions, including whether this information will have practical utility; (2) the accuracy of our estimate of burden, including the validity of the methodology and assumptions we use; (3) ways to enhance the quality, utility, and clarity of the information we are proposing to collect; and (4) ways to minimize the burden of the collection of information on those who are to respond, including through the use of appropriate automated, electronic, mechanical, or other technological collection techniques or other forms of information technology. We may not conduct or sponsor, and a person is not required to respond to, a collection of information unless we display a current valid OMB control number.

In October 1988, pursuant to provisions of Section 109(i) of the Marine Mammal Protection Act (MMPA) of 1972, as amended (16 U.S.C. 1361-1407), we implemented formal Marking, Tagging, and Reporting Regulations in 50 CFR 18.23 for Alaska natives harvesting polar bear, sea otter, and Pacific walrus in Alaska. Under Section 101(b) of the MMPA, Alaska Natives residing in Alaska and dwelling on the coast of the North Pacific or Arctic Oceans may harvest these species for subsistence or handicraft purposes. Section 109(i) of the MMPA authorized us, acting on behalf of the Secretary of the Interior, to prescribe marking, tagging, and reporting regulations applicable to this Native subsistence and handicraft take.

On June 28, 1988, under authority of Section 109(i) of the MMPA, we published a final rule in the Federal Register that added paragraph (f) to our marine mammal regulations at 50 CFR 18.23. These regulations have enabled us to gather data on the Native subsistence and handicraft harvest, and on the biology of polar bear, sea otter, and Pacific walrus in Alaska in order to determine what effect such take is having on these populations. The regulations have also provided us with a means of monitoring the disposition of the harvest to ensure that any commercial use of products created from these species meets the criteria set forth in Section 101(b) of the MMPA.

The information that we propose to continue to collect from Alaska Natives beyond the currently authorized period that expires on October 31, 2001 (under OMB Clearance Number 1018-0066), will be used to improve our decision-making ability by substantially expanding the quality and quantity of harvest and biological data upon which we can base future management decisions. It will provide us with the ability to make inferences about the condition and general health of these populations, and to consider the importance and impacts to these population from such processes as development activities and habitat degradation. Without authority to collect this harvest information, our ability to measure the take of polar bear, sea otter and walrus is inadequate. We believe that mandatory marking, tagging and reporting is essential for us, in concert with Alaska Natives, to be able to improve the quality and quantity of harvest and biological data necessary to base future management decisions. It allows us to make rational, knowledgeable decisions regarding the Native harvest; habitat degradation; and the effects of oil and gas exploration, development, and production planned or underway for areas within the range of these species.

We estimate that the annual burden associated with this request will be 674 hours for each year of the 3-year period of OMB authorization. We calculated this estimated burden based on previous experience suggesting that Alaska Natives annually will take about 2,695 polar bears, sea otter, and Pacific walrus for subsistence and handicraft purposes, and that 15 minutes will be needed to provide the required information for each animal taken.

Title: Marine Mammal Marking, Tagging, and Reporting Program.

Bureau form numbers: R7-50, R7-51, and R7-52.

Frequency of collection: Occasional.

Description of respondents: Individuals and households.

Number of respondents: Approximately 2,695 per year.

Estimated completion time: 15 minutes per response.

Annual burden hours: 674 hours.

Current OMB Clearance Number: 1018-0066.

Approval expires: October 31, 2001.

Dated: February 28, 2001.
Rebecca A. Mullin,
Information Collection Officer, Fish and Wildlife Service.

[FR Doc. 01-5324 Filed 3-5-01; 8:45 am]

BILLING CODE 4310-55-M